FEDERAL COMMUNICATIONS COMMISSION

47 CFR Parts 73 and 74

[MB Docket Nos. 07-294 and 10-103, MD Docket No. 10-234; Report No. 3043]

Petitions for Reconsideration of Action in Rulemaking Proceeding

AGENCY: Federal Communications Commission.

ACTION: Petitions for reconsideration.

SUMMARY: Petitions for Reconsideration (Petitions) have been filed in the Commission's rulemaking proceeding by: Lawrence M. Miller, on behalf of Public Broadcasting Parties, Sylvia Strobel, on behalf of American Public Media Group, Todd D. Gray, on behalf of NCE Licensees and Joseph B. Porter, on behalf of The State University of New York.

DATES: Oppositions to the Petitions must be filed on or before June 2, 2016. Replies to an opposition must be filed on or before June 13, 2016.

ADDRESSES: Federal Communications Commission, 445 12th Street SW., Washington, DC 20554.

FOR FURTHER INFORMATION CONTACT: Jessica Campbell, Media Bureau, (202) 418-3609, email: jessica.campbell@fcc.gov.

SUPPLEMENTARY INFORMATION: This is a summary of Commission's document, Report No. 3043, released May 9, 2016. The full text of the Petitions is available for viewing and copying at the FCC Reference Information Center, 445 12th Street SW., Room CY-A257, Washington, DC 20554 or may be accessed online via the Commission's Electronic Comment Filing System at http://apps.fcc.gov/ecfs/. The Commission will not send a copy of this Public Notice pursuant to the Congressional Review Act, 5 U.S.C. 801(a)(1)(A), because this Public Notice does not have an impact on any rules of particular applicability.

Subject: Promoting Diversification of Ownership in the Broadcasting Services, published at 81 FR 19432, April 4, 2016, in MB Docket Nos. 07-294 and 10-103, MD Docket No. 10-234, and FCC 16-1. This Public Notice is being published pursuant to 47 CFR 1.429(e). See also 47 CFR 1.4(b)(1).

Number of Petitions Filed: 4

Federal Communications Commission.
Marlene H. Dortch,
Secretary.

[FR Doc. 2016-11689 Filed 5-17-16; 8:45 am]

BILLING CODE 6712-01-P